DEPARTMENT OF COMMERCE

National Oceanic and Atmospheric Administration

RIN 0648-XE732

Threatened Species; Take of Steelhead

AGENCY: National Marine Fisheries Service (NMFS), National Oceanic and Atmospheric Administration (NOAA), U.S. Department of Commerce.

ACTION: Notice of receipt for one scientific enhancement permit application.

SUMMARY: Notice is hereby given that NMFS has received an application from Stillwater Sciences for one U.S. Endangered Species Act (ESA) section 10(a)1(A) scientific enhancement permit (permit 20085) to conduct invasive species removal from a southern California watershed (Chorro Creek). Proposed activities within the requested permit are expected to affect the threatened Southern Central California Coast (SCCC) Distinct Population Segment of steelhead (Oncorhynchus mykiss). The public is hereby notified that the application for Permit 20085 is available for review and comment before NMFS either approves or disapproves the application.

DATES: Written comments on the permit application must be received at the appropriate address, email mailbox, or fax number (see ADDRESSES) on or before August 22, 2016.

ADDRESSES: Written comments on the permit application should be submitted by one of the following methods:

• Email: FRNpermits.lb@noaa.gov.

• Mail: Matt McGoogan, NMFS, California Coastal Area Office, 501 W. Ocean Blvd., Suite 4200, Long Beach, California 90802.

• Fax (562) 980-4027.

The permit application is available for review, by appointment, at the foregoing address or online at the Authorizations and Permits for Protected Species Web site: https://apps.nmfs.noaa.gov/preview/preview_open_for_comment.cfm.

FOR FURTHER INFORMATION CONTACT: Matt McGoogan (phone: 562-980-4026 or email: matthew.mcgoogan@noaa.gov).

SUPPLEMENTARY INFORMATION: Species Covered in This Notice: Threatened South Central California Coast Distinct Population Segment of steelhead (Oncorhynchus mykiss).

Scientific research and enhancement permits are issued in accordance with section 10(a)(1)(A) of the ESA (16 U.S.C. 1531 et seq.) and regulations governing listed fish and wildlife permits (50 CFR parts 222-227). NMFS issues permits based on findings that such permits (1) are applied for in good faith, (2) would not operate to the disadvantage of the listed species which are the subject of the permits, and (3) are consistent with the purposes and policies set forth in section 2 of the ESA. Authority to take listed species is subject to conditions set forth in the permits.

This notice is provided pursuant to section 10(c) of the ESA. NMFS will evaluate the application, associated documents, and any comment submitted to determine whether the application meets the requirements of section 10(a) of the ESA and Federal regulations. The final permit decisions will not be made until after the end of the 30-day comment period and consideration of any comment submitted therein. NMFS will publish notice of its final action in the Federal Register.

Those individuals requesting a hearing on the application listed in this notice should provide the specific reasons why a hearing on the application would be appropriate (see ADDRESSES). Such a hearing is held at the discretion of the Assistant Administrator for Fisheries, NOAA. All statements and opinions contained in the permit action summary are those of the applicant and do not necessarily reflect the views of NMFS.

Permit Application Received

Permit 20085

Stillwater Sciences (environmental consulting firm) has applied for a section 10(a)1(A) scientific enhancement permit (permit 20085) to conduct an invasive species management effort involving the removal of Sacramento pikeminnow (Ptychocheilus grandis) from the Chorro Creek watershed in San Luis Obispo County, California. The primary objectives of this effort involve: (1) Determining the distribution, abundance, size, and age structures of both pikeminnow and SCCC steelhead; (2) suppressing and eliminating pikeminnow from the watershed; (3) developing a plan for long-term pikeminnow management in the watershed; and (4) documenting changes in SCCC steelhead abundance and distribution in response to pikeminnow removal. Proposed enhancement activities include: (1) Conducting snorkel surveys to assess abundance and distribution of pikeminnow and SCCC steelhead; (2) using backpack electrofishing equipment, seine-nets, hook-and-line sampling, and spearfishing to capture pikeminnow; (3) anesthetizing any juvenile steelhead captured during electrofishing and seining activities prior to measuring weight and length; (4) returning any captured steelhead to Chorro Creek; and (5) humanely euthanizing and disposing of pikeminnow.

Field activities for the proposed enhancement effort will occur during the summer and fall over five years between August 1, 2016, and December 2020. The annual take Stillwater Sciences is requesting for this effort is as follows: (1) Non-lethal capture and release of up to 1,500 juvenile steelhead while electrofishing, (2) non-lethal capture and release of up to 150 juvenile steelhead while seining, (3) non-lethal capture and release up to 5 juvenile steelhead while hook-and-line fishing, and (4) non-lethal observation of up to 2000 juvenile and 10 adult steelhead during instream snorkel surveys. The potential annual unintentional lethal take resulting from the proposed enhancement activities is up to 33 juvenile steelhead. Overall, no intentional lethal take of steelhead is proposed or expected as a result of these enhancement activities.

The proposed scientific enhancement effort is expected to support steelhead recovery in the Chorro Creek watershed and is consistent with recommendations and objectives outlined in NMFS' South Central California Steelhead Recovery Plan. See the application for Permit 20085 for more details on the scientific enhancement proposal and related methodology.

Dated: July 18, 2016.
Angela Somma,
Chief, Endangered Species Division, Office of Protected Resources, National Marine Fisheries Service.

[FR Doc. 2016-17214 Filed 7-20-16; 8:45 am]

BILLING CODE 3510-22-P